DEPARTMENT OF EDUCATION

Office of Special Education and Rehabilitative Services; Overview Information; National Institute on Disability and Rehabilitation Research (NIDRR)—Research Fellowships Program; Notice Inviting Applications for New Awards for Fiscal Year (FY) 2006

Correction

In notice document E5-6724 beginning on page 72111 in the issue of Thursday, December 1, 2005, make the following correction:

On page 72111, in the second column, under the Dates: heading, in the second line, “January 30, 2006” should read “Deadline for Transmittal of Applications: January 30, 2006”.

[FR Doc. Z5-6724 Filed 12-5-05; 8:45 am]

BILLING CODE 1505-01-D